ENVIRONMENTAL PROTECTION AGENCY

[EPA-HQ-TRI-2007-0355; FRL-8338-6]

Agency Information Collection Activities, Proposed Collections; Toxic Chemical Release Reporting; Request for Comments on Proposed Renewals of Form R (EPA ICR No. 1363.15, OMB Control No. 2070-0093 ) and Form A Certification Statement (EPA ICR No. 1704.09, OMB Control No. 2070-0143)

AGENCY: Environmental Protection Agency (EPA).

ACTION: Notice.

SUMMARY: In compliance with the Paperwork Reduction Act (PRA) (44 U.S.C. 3501 et seq.), this document announces that the U.S. Environmental Protection Agency (EPA) is planning to submit a request to the Office of Management and Budget (OMB) to renew existing approved Information Collection Requests (ICRs) for the Toxics Release Inventory (TRI) reporting Form R and the Form A Certification Statement. Both ICRs are scheduled to expire on January 31, 2008. Before submitting the ICRs to OMB for review and approval, EPA is soliciting public comments on the proposed information collections, incorporating proposed minor changes, as described in this notice.

DATES: Comments must be submitted to EPA on or before September 10, 2007.

ADDRESSES: Submit your comments, identified by Docket ID No. EPA-HQ-TRI-2007-0355, by one of the following methods:

(1) U.S. Government Web site for Federal Rulemaking, http://www.regulations.gov. Follow the on-line instructions for submitting comments.

(2) E-mail: oei.docket@epa.gov.

(3) Fax: 202-566-9744.

(4) Mail: Office of Environmental Information (OEI) Docket, U.S. Environmental Protection Agency, Mail Code 2822T, 1200 Pennsylvania Ave., NW., Washington, DC 20460.

(5) Hand Delivery: Public Reading Room, EPA West Building, Room 3334, 1301 Constitution Avenue, NW., Washington, DC 20004. Such deliveries are only accepted during the docket's normal hours of operations: 8 a.m. to 4:30 p.m., Monday through Friday, excluding legal holidays. Special arrangements should be made for deliveries of boxed information.

Instructions: To submit a comment to the docket, direct your comments to Docket ID No. EPA-HQ-TRI-2007-0355. EPA's policy is that all comments received will be included in the public docket without change and will be made available online at http://www.regulations.gov, including any personal information that has been provided, unless the comment includes information claimed to be Confidential Business Information (CBI) or other information for which disclosure is restricted by statute. Do not submit information that is considered to be CBI or otherwise protected information through www.regulations.gov or e-mail. The www.regulations.gov Web site is an “anonymous access” system, which means that EPA will not know your identity or contact information unless you provide it in the body of your comments. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. When preparing electronic files, avoid using special characters or any form of encryption and ensure that the electronic files to be submitted are free of any defects or viruses. For additional information about EPA's public docket visit the EPA Docket Center homepage at http://www.epa.gov/epahome/dockets.htm.

FOR FURTHER INFORMATION CONTACT: Cassandra Vail, Toxics Release Inventory Program Division, Office of Information Analysis and Access, Office of Environmental Information, U.S. Environmental Protection Agency, Mail Code 2844T, 1200 Pennsylvania Ave., NW., Washington, DC 20460; phone number, 202-566-0753; fax number, 202-566-0741; e-mail, vail.cassandra@epa.gov.

SUPPLEMENTARY INFORMATION:

How Can I Access the Docket?

EPA has established a public docket for the ICRs described in this notice under Docket ID No. EPA-HQ-TRI-2007-0355, which is available for online viewing at http://www.regulations.gov. Go to http://www.regulations.gov to obtain a copy of the proposed collections of information, to submit or view public comments, to obtain an index of the docket contents, and to obtain those documents in the public docket that are available electronically. Once in the system, select “search,” then enter the docket ID number identified in this document.

The docket is also available for viewing in person at the OEI Docket, EPA Docket Center (EPA/DC), U.S. EPA West Building, Room 3334, 1301 Constitution Ave., NW., Washington, DC. The EPA/DC Public Reading Room is open from 8 a.m. to 4:30 p.m., Monday through Friday, excluding legal holidays. The phone number for the Reading Room is 202-566-1744, and the phone number for the OEI Docket is 202-566-1752.

In Which Information Is EPA Particularly Interested?

Pursuant to section 3506(c)(2)(a) of the Paperwork Reduction Act (PRA), EPA specifically solicits comments and information to enable it to:

(1) Evaluate whether the proposed collection of information is necessary for the proper performance of the functions of the Agency, including whether the information will have practical utility;

(2) Evaluate the accuracy of the Agency's estimate of the burden of the proposed collection of information, including the validity of the methodology and assumptions used;

(3) Enhance the quality, utility, and clarity of the information to be collected; and

(4) Minimize the burden of the collection of information on those who are to respond, including through the use of appropriate automated electronic, mechanical, or other technological collection techniques or other forms of information technology, e.g., permitting the electronic submission of responses. In particular, EPA is requesting comments from very small businesses (those that employ less than 25) on examples of specific additional efforts that EPA could make to reduce the paperwork burden for very small businesses affected by this collection.

EPA is also particularly interested in comments regarding the changes the Agency is proposing to the TRI reporting forms and instructions. See below for a description of the changes that EPA is proposing to make to the ICRs for TRI (i.e., under section “Are There Changes in the Burden Estimates from the Last Approval?”).

What Should I Consider When I Prepare My Comments for EPA?

You may find the following suggestions helpful for preparing your comments:

(1) Explain your views as clearly as possible and provide specific examples;

(2) Describe any assumptions that you used;

(3) Provide copies of any technical information and/or data you used that support your views;

(4) If you estimate the potential burden hours or labor costs, explain how you arrived at your estimates;

(5) Offer alternative ways to improve the collection activity;

(6) Make sure to submit your comments by the deadline identified under DATES; and

(7) To ensure proper receipt by EPA, identify the docket ID number assigned to this action in the subject line on the first page of your response. You may also provide the name, date, and Federal Register citation.

What Information Collection Activity or ICR Does This Apply to?

This notice provides information on the proposed renewal of two ICRs: One for the TRI Form R (EPA ICR No. 1363.15, OMB Control No. 2070-0093) and the other for the TRI Form A Certification Statement (EPA ICR Number 1704.09, OMB Control Number 2070-0143). Both forms are used extensively throughout the reporting community.

Affected Entities: Section 313 of the Emergency Planning and Community Right-to-Know Act (EPCRA) requires owners/operators of facilities that meet all of the following criteria to report to the TRI Program:

(1) The facility has 10 or more full-time employee equivalents (i.e., a total of 20,000 hours or greater; see 40 CFR 372.3); and

(2) The facility is included in an industry sector that is covered by the statute (based on SIC/NAICS codes); and

(3) The facility manufactures (defined to include importing), processes, or otherwise uses any EPCRA section 313 chemical in quantities greater than the established threshold in the course of the calendar year.

Federal facilities are also required to report to the TRI Program, as indicated in the instructions and requirements for implementing Executive Order 13423, “Strengthening Federal Environmental, Energy, and Transportation Management.”

Title: Agency Information Collection Activities, Proposed Collections; Toxic Chemical Release Reporting; Request for Comments on Proposed Renewals of Form R (EPA ICR No. 1363.15, OMB Control No 2070-0093) and Form A Certification Statement (EPA ICR Number 1704.09, OMB Control Number 2070-0143).

ICR Status: The ICRs for the TRI Form R and the TRI Form A Certification Statement are scheduled to expire on January 31, 2008.

Abstract: EPCRA section 313 requires owners and operators of certain facilities that manufacture, process, or otherwise use any of certain listed toxic chemicals and chemical categories in excess of applicable threshold quantities to report annually to EPA and the states in which such facilities are located on their environmental releases and transfers of and other waste management activities for such chemicals. In addition, section 6607 of the Pollution Prevention Act (PPA) requires facilities to provide information on the quantities of the toxic chemicals in waste streams and the efforts made to reduce or eliminate those quantities. Annual reporting under EPCRA section 313 and PPA section 6607 provides the public with a useful picture of the total disposition of chemicals at the community level and helps industrial facilities identify pollution prevention and source reduction opportunities.

This information, commonly known as the Toxics Release Inventory (TRI), is used extensively by EPA programs and the public. EPA program offices use TRI data, along with other data, to help establish programmatic priorities, evaluate potential exposure scenarios, and undertake regulatory and enforcement activities. Environmental and public interest groups also use the data to better understand toxic chemical releases, to inform the public of toxic chemical releases at the community level, and to engage the public and private sectors in taking action to reduce toxic chemical releases. Industrial facilities and industry associations also use the TRI data to evaluate the efficiency of their production processes and to help monitor their progress in achieving pollution prevention goals.

The TRI data are unique in providing a multi-media picture of toxic chemical releases, transfers, and other waste management activities to air, water, and land from the local community level to the national level on a yearly basis. While some media-specific toxic chemical data and related permit data are available from other sources, the chemicals and industry sectors covered, the reporting timeframes, and the degree to which the data are publicly available are not directly comparable to TRI, making it difficult to obtain as comprehensive a picture of toxic chemical releases from other sources as is available from TRI. With TRI, communities, government agencies, and industrial facilities have easy access to quantitative information about the toxic chemicals that are being released, transferred, or otherwise managed as waste at a given location.

Facilities that are subject to the TRI reporting requirements must submit their reports for each calendar year by July 1st of the following year. Responses to the collection of information are mandatory (see 40 CFR part 372). Respondents may claim trade secrecy for a chemical's identity as described in section 322 of EPCRA and its implementing regulations in 40 CFR part 350. EPA will disclose information that is covered by a claim of trade secrecy only to the extent permitted by, and in accordance with, the procedures in 40 CFR part 350 and 40 CFR part 2. An agency may not conduct or sponsor, and a person is not required to respond to, a collection of information unless it displays a currently valid OMB control number. The OMB control numbers for EPA's regulations in 40 CFR are listed in 40 CFR part 9 and are identified on the form and/or instrument, if applicable.

Burden Statement: The average time required for calculations, form completion, and recordkeeping for Form R, incorporating all of the proposed changes outlined below, is estimated to be 29.7 hours for a non-PBT chemical and 51.4 hours for a PBT chemical. The average time required for calculations, form completion, and recordkeeping for the Form A Certification Statement for a single TRI-listed chemical, incorporating all of the proposed changes outlined below, is estimated to be 20.6 hours for a non-PBT chemicals and 36.0 hours for a PBT chemical.

Reporter burden is calculated as the total time, effort, and/or financial resources expended by persons to generate, maintain, retain, or disclose or provide information to or for a Federal agency. This includes the time needed to review instructions; develop, acquire, install, and utilize technology and systems for the purposes of collecting, validating, and verifying information; processing and maintaining information; disclosing and providing information; adjusting existing ways to comply with any previously applicable instructions and requirements that have subsequently changed; training personnel to respond to a collection of information; searching data sources; completing and reviewing the collection of information; and transmitting or otherwise disclosing the information.

Are There Changes in the Burden Estimates From the Last Approval?

OMB approved the ICR for Form R and the ICR for the Form A Certification Statement on March 3, 2006, with an expiration date of January 31, 2008. The ICR for Form R approved at that time reflected a respondent reporting burden of 3,746,590 hours and labor costs of $170,500,000. The ICR for Form A approved at that time reflected a respondent reporting burden of 259,192 hours and labor costs of $11,919,489.

Since the last ICR Renewals, EPA published the final TRI Burden Reduction Rule (71 FR 76932; December 22, 2006), which broadened the eligibility criteria for facilities that can utilize the shorter Form A Certification Statement rather than the longer, more-detailed Form R. The TRI Burden Reduction Rule is thus expected to reduce the number of Form Rs and increase the number of Form A Certification Statements that will be submitted by TRI-regulated facilities.

On February 20, 2007, OMB approved new burden hour and labor cost figures for the Form R and Form A Certification Statement, in response to the final TRI Burden Reduction Rule. OMB's approvals indicated (1) a decrease in the total burden hours for Form R from 3,746,590 to 3,344,292—a decrease of 402,298 hours for Form R; and (2) an increase in the total burden hours for Form A from 259,192 to 538,688—an increase of 279,496 hours for the Form A Certification Statement. OMB's Terms of Clearance stated that the new burden hours reflect “changes in the TRI Burden Reduction Rule, which expands the eligibility for Form A reporting. The increase of 279,496 hours in Form A is more than offset by a 402,298 hour reduction in Form R, for a net burden reduction of 122,802 hours.” (Please note that the figures in the 2006-2008 ICRs, approved in March 2006, were based on the number of RY 2002 TRI forms, which was higher than the number of RY 2005 TRI forms; therefore, the current estimates are higher than they would be if all of the calculations had been based on RY 2005 data. The proposed ICRs for 2008-2010 incorporate RY 2005 data in all of the calculations.)

Utilizing the RY 2005 TRI reporting data and updated labor rates throughout the analyses, EPA now estimates the total respondent burden and labor costs for Form R (including the implementation of the TRI Burden Reduction Rule) to be 3,215,715 hours and $160,730,000, not including the proposed changes to the Form R which are outlined below. The changes that the TRI Program is proposing to make to the Form R and reporting instructions are expected to result in a total respondent burden and cost for Form R of 3,216,246 hours and $160,760,000.

Utilizing the RY 2005 TRI reporting data and updated labor rates throughout the analyses, EPA now estimates the total respondent burden and labor costs for the Form A Certification Statement (including the implementation of the TRI Burden Reduction Rule) to be 515,284 hours and $25,985,056, not including the proposed changes to the form that are outlined below. The changes that the TRI Program is proposing to make to the Form A Certification Statement and reporting instructions are expected to result in a total respondent burden and cost for Form A of 517,311 hours and $26,062,859.

For a detailed explanation of the Agency's estimates of the respondent reporting burden and labor costs, please refer to the proposed Supporting Statements for the Form R and the Form A Certification Statement, which are available in the docket.

EPA is proposing changes to the Form R and Form A Certification Statement to standardize and enhance the utility of the data. More specifically, the changes to the forms and instructions (described below) will help the TRI Program better determine its impact on small businesses, allow facilities to provide more detailed information on how they estimate their data, facilitate efficient contact with the appropriate facility personnel, and determine and better understand the reasons for form revisions or withdrawals.

1. Collect Small Business Information (Forms R and A). Add fields to both the Form R and the Form A Certification Statement to collect information on whether the reporting facility's parent company is a small business, as defined by the Small Business Administration (SBA). (If the facility does not have a parent company, small business information would be collected on the facility itself and all of its affiliates considered together.) Rationale: EPA strives to achieve an appropriate balance between collecting valuable TRI data and reducing the reporting burden on regulated facilities, including small businesses. To date, it has been a time-consuming process to assess the impact of TRI regulatory changes on small businesses, and in some instances, the data needed to determine whether a facility is a small business have not been available to EPA. By collecting small business information about facilities directly on the TRI reporting forms, the TRI Program will be better able to determine the impacts of potential TRI regulatory changes on small businesses more quickly and accurately.

2. Provide More Specific “Basis of Estimate” Codes (Form R only). Provide more “basis of estimate” codes in the TRI Reporting Forms and Instructions (RFI) for use on Form R which facilities can use to indicate the principal method used to determine the quantities reported to the TRI Program. Rationale: Facilities may currently select among four codes to indicate how they calculate their release quantities: The use of monitoring data (code M), mass balance calculations (C), emission factors (E), and other approaches (O). EPA is proposing to provide more specific codes in the RFI which would allow the facilities to provide better information on the “basis of estimate.” For example, with the proposed changes, facilities could use a different code for continuous monitoring than for periodic or random monitoring. In addition, the new set of codes would make the TRI “basis of estimate” codes comparable to the codes used by the Canadian government, thereby making it easier to analyze and compare data between the United States and Canada.

3. Enhance the Point of Contact Information (Form R and/or Form A, as noted below).

a. Provide a field on the Form R and Form A for “Form Preparer,” for use by a facility if the form preparer is a different individual than the “Technical Contact.” Rationale: When questions arise about a facility's data submission, the TRI Program may wish to contact the facility to clarify the information. In a number of instances in the past, TRI Program staff have contacted the “Technical Contact” listed on a facility's form and been asked to contact another individual who prepared the form on the facility's behalf. By adding a field for “Form Preparer,” the TRI Program staff will be able to contact the appropriate individual depending on the nature of the question or issue. The “Form Preparer” does not need to be the same individual as either the “Technical Contact” or the individual who certifies and signs the form, and the “Form Preparer” does not necessarily need to be someone at the location of the reporting facility.

b. Add an e-mail address field for the “Public Contact” to Form R. Rationale: Providing an e-mail address will make it easier to contact and follow-up with the “Public Contact” if necessary.

c. Add a field for the “Public Contact Name” to Form A, along with associated telephone number and e-mail address fields. Rationale: Adding a “Public Contact” field to the Form A will provide the name of a person who can respond to questions from the public about the Form A Certification Statement. It will also make the Form A contact information more consistent with the information provided on Form R.

4. Add Boxes for Entering Revision Codes (Forms R and A). Provide boxes on the Form R and Form A where up to two codes (which will be listed and defined in the Reporting Forms and Instructions) can be entered to indicate the main reason(s) that a form is being revised. Rationale: The TRI Program currently receives many form revisions each year, but does not currently collect information on the reasons for the revisions. The new revision codes will allow both the public and the TRI Program to better understand why a facility resubmitted a form. In addition, by analyzing the reasons for revisions, the TRI Program may be better able to address recurring reporting issues or problems that facilities may be facing, ultimately reducing errors and saving time for both the Agency and the reporting facilities.

5. Provide a Field for Withdrawing a Form, and Add Boxes for Entering Withdrawal Codes (Forms R and A). Provide a new field, along with boxes where up to two codes can be entered, on the Form R and Form A so that facilities can use the forms to withdraw a previous report, if appropriate, and indicate the main reason(s) for the withdrawal. Rationale: Currently, a facility that wishes to withdraw a previously submitted form must submit its request, including the rationale, as a hard copy memo to the TRI Data Processing Center via regular mail, certified mail, or overnight delivery. The addition of a “Withdrawal” field and the associated code boxes to the Form R and Form A will make it easier for the TRI Program to automate the withdrawal process and then to analyze the reasons for withdrawals more efficiently.

Taken together, the form changes described above will help the TRI Program better determine its impact on small businesses, enhance the information provided on estimation methods, facilitate contact with the appropriate facility personnel, and better understand and analyze the form revision and withdrawal processes. The total burden increase that would result from the changes outlined above would be relatively small compared to the overall information collection burden, and this small increase would be negligible in comparison to the total burden reduction that resulted from the final TRI Burden Reduction Rule. Based on calculations using RY 2005 data, the total burden hours for the 2008-2010 ICRs (i.e., considering the Forms R and A together) would be (1) reduced by 3.5% due to the final TRI Burden Reduction Rule and (2) modestly increased by .16% due to the proposed revisions of the reporting forms and instructions.

What Is the Next Step in the Process for These ICRs?

EPA will consider the comments received on the proposed information collections and revise the ICRs as appropriate. The final ICR packages will then be submitted to OMB for review and approval pursuant to 5 CFR 1320.12. At that time, EPA will publish another Federal Register notice for each ICR pursuant to 5 CFR 1320.5(a)(1)(iv) to announce the submission of the ICRs to OMB and the opportunity for the public to submit additional comments to OMB. If you have any questions about these ICRs or the approval process, please contact the individual listed under FOR FURTHER INFORMATION CONTACT.

Dated: July 3, 2007.
Mike Flynn,
Office Director, Office of Information Analysis and Access, Office of Environmental Information.

[FR Doc. E7-13425 Filed 7-10-07; 8:45 am]

BILLING CODE 6560-50-P